DEPARTMENT OF COMMERCE

National Oceanic and Atmospheric Administration

50 CFR Part 635

[Docket No. 000323080-0080-01; I.D. 031500A]

RIN 0648-AN97

Atlantic Highly Migratory Species; Atlantic Bluefin Tuna Angling Category

AGENCY: National Marine Fisheries Service (NMFS), National Oceanic and Atmospheric Administration (NOAA), Commerce.

ACTION: Advance notice of proposed rulemaking (ANPR); request for comments.

SUMMARY: NMFS is requesting public comments regarding the geographical division of the Atlantic bluefin tuna (BFT) Angling category fishery and whether an adjustment of the north-south division line and an associated adjustment of the BFT subquota percentages allocated to each area is warranted. Over the last several BFT fishing seasons, fishery participants have stated to NMFS that the division line needs to be adjusted to increase the extent of recreational fishing opportunities and to divide the northern and southern areas in a manner consistent with current fishing patterns. NMFS wants to determine if a change to the current division line and subsequent reallocation of quota is needed to better coordinate domestic conservation and management of the fishery consistent with the objectives of the Fishery Management Plan for Atlantic Tunas, Swordfish, and Sharks (HMS FMP).

DATES: Written comments on this ANPR are invited and must be received on or before May 22, 2000.

ADDRESSES: Written comments should be sent to Rebecca Lent, Chief, Highly Migratory Species (HMS) Management Division, Office of Sustainable Fisheries (F/SF1), NMFS, 1315 East-West Highway, Silver Spring, MD 20910-3282. Comments also may be sent via facsimile (fax) to (301) 713-1917. Comments will not be accepted if submitted via e-mail or the Internet.

FOR FURTHER INFORMATION CONTACT: Pat Scida or Sarah McLaughlin, (978) 281-9260.

SUPPLEMENTARY INFORMATION: Atlantic tunas are managed under the dual authority of the Magnuson-Stevens Fishery Conservation and Management Act (Magnuson-Stevens Act) and the Atlantic Tunas Convention Act (ATCA). The ATCA authorizes the Secretary of Commerce (Secretary) to implement binding recommendations of the International Commission for the Conservation of Atlantic Tunas (ICCAT). The authority to issue regulations under the Magnuson-Stevens Act and ATCA has been delegated from the Secretary to the Assistant Administrator for Fisheries, NOAA (AA). Within NMFS, daily responsibility for management of Atlantic HMS fisheries rests with the HMS Management Division of the Office of Sustainable Fisheries.

On May 28, 1999, NMFS published in the Federal Register (64 FR 29090) final regulations, effective July 1, 1999, implementing the HMS FMP. The HMS FMP and its implementing regulations establish percentage quota shares for the ICCAT-recommended U.S. BFT landing quota for each of the domestic fishing categories, and include measures regarding geographic subquotas and set-asides.

Angling Category Geographical Division

In response to quota reductions in 1992, two management areas were created for the BFT Angling category fishery. The north-south division line is located at 38°47' N. latitude (Delaware Bay). Generally, the recreational fishery begins each season off the southern and mid-Atlantic states, and so a subdivision was created to ensure a late season fishery in the northern mid-Atlantic and southern New England regions. Thus, the geographic split was designed to enable NMFS to manage the early season (June/July off the Virginia to Delaware coasts) and late season (August/September off the New Jersey to Massachusetts coasts) BFT fisheries under separate quotas, corresponding with the summer feeding migration of school, large school, and small medium BFT.

For the last several BFT fishing seasons, NMFS has received comments that an adjustment to the Angling category BFT north-south division line is warranted. Specifically, vessels fishing for BFT from ports in southern New Jersey, which is in the northern area, tend to utilize fishing areas located in the southern area (i.e., offshore of Ocean City, Maryland). This pattern of activity raises two concerns with respect to the dividing line for the southern and northern areas. First, when the southern and northern areas are both open, a significant number of fish caught in the southern area are landed in the northern area and counted against the applicable northern area subquotas. Second, when the southern area is closed, vessels from southern New Jersey are effectively excluded from the school BFT fishery because the fish are generally distributed too far north to accommodate single-day trips. NMFS has received specific suggestions to move the north-south division line to the north of the Ocean City, New Jersey area or to the south of the Ocean City, Maryland area.

NMFS is requesting comments on whether the current north-south division line is adequate or whether it should be moved to increase the geographical extent of recreational fishing opportunities and to define the northern and southern areas in a manner consistent with current fishing patterns. Any change to the current division line and subsequent reallocation of quota, must be consistent with the HMS FMP, specifically with the objectives to better coordinate domestic conservation and management of the fisheries and to simplify and streamline HMS management. For the BFT Angling category, it is NMFS' goal to ensure reasonable fishing opportunities in all geographic areas without risking overharvest of the Angling category quota.

Various options include: (1) No adjustment to the division line; (2) move the division line to the Ocean City, New Jersey area or to 39°18' N. latitude, just north of Great Egg Inlet to effectively isolate the fisheries as virtually all vessels fishing for BFT from these areas fish in the southern, early season fishery (as suggested to NMFS in previous public comments); (3) move the division line to 38° 03' N. latitude (south of Ocean City, Maryland), so that all of the fishing activity based out of Maryland, Delaware, and southern New Jersey ports takes place in one area, i.e., a newly defined northern area (as suggested to NMFS in previous public comments); (4) move the division line to another latitude that is also consistent with the HMS management objectives mentioned above; and (5) eliminate the line altogether and use NMFS' existing authority to close and open the fishery based on inseason monitoring through review of daily landing trends, availability of BFT on the fishing grounds, and any other relevant factors, to provide for maximum utilization of the quota over the longest possible period of time. Adjusting the location of the north-south division line may reduce confusion and may prevent vessels from being excluded from participating in the fishery, especially when retention limits are different in the two areas.

Angling Category BFT Subquotas

Currently, there are separate Angling category BFT quota landings allocations for each of the areas north and south of the division line (38°47' N. lat). As stated in the HMS FMP, allocations to the southern area are as follows: (1) 47.2 percent of the school BFT Angling category landings quota, minus the school BFT quota held in reserve; (2) 47.2 percent of the large school/small medium BFT Angling category quota; and (3) 66.7 percent of the large medium and giant BFT Angling category quota. Allocations to the northern area are as follows: (1) 52.8 percent of the school BFT Angling category landings quota, minus the school BFT quota held in reserve; (2) 52.8 percent of the large school/small medium BFT Angling category quota; and (3) 33.3 percent of the large medium and giant BFT Angling category quota.

If NMFS adjusts the north-south division line, revision of the north and south allocation percentages also may be considered. Various options for revising the north and south allocation percentages include: (1) Maintain the status quo, i.e., no quota allocation change; (2) revise the allocation based on a review of data regarding estimated landings of all sizes of BFT north and south of any new division line; or (3) switch the north-south allocation percentages of school through small medium BFT in conjunction with implementation of an Ocean City, New Jersey area division line, i.e., 52.8 percent for the southern area and 47.2 for the northern area (as suggested to NMFS in previous public comments).

Request for Comments

NMFS requests comments on whether the location of the north-south division line in the Angling category should be adjusted and, if so, to where; and whether the subquota allocations for the northern and southern areas should be adjusted and, if so, how. Comments received on this ANPR will assist NMFS in drafting any future proposed changes to the Atlantic HMS regulations. The public will be provided ample opportunity for written and verbal comments following publication of any proposed regulatory amendments concerning these issues.

Authority: 16 U.S.C. 971 et seq. and 1801 et seq.

Dated: April 4, 2000.
Bruce C. Morehead,
Acting Director, Office of Sustainable Fisheries, National Marine Fisheries Service.

[FR Doc. 00-8773 Filed 4-7-00; 8:45 am]

BILLING CODE 3510-22-F